DEPARTMENT OF TRANSPORTATION

National Highway Traffic Safety Administration

[Docket No. NHTSA-2014-0125; Notice 2]

General Motors, LLC, Grant of Petition for Decision of Inconsequential Noncompliance

AGENCY: National Highway Traffic Safety Administration (NHTSA), Department of Transportation (DOT).

ACTION: Grant of petition.

SUMMARY: General Motors, LLC, (GM) has determined that certain model year (MY) 2015 GMC multipurpose passenger vehicles (MPV) do not fully comply with Federal Motor Vehicle Safety Standard (FMVSS) No. 108, Lamps, Reflective Devices, and Associated Equipment. GM has filed a noncompliance report dated November 5, 2014. GM also petitioned NHTSA on November 26, 2014, for a decision that the subject noncompliance is inconsequential as it relates to motor vehicle safety.

FOR FURTHER INFORMATION CONTACT: Mike Cole, Office of Vehicle Safety Compliance, NHTSA, telephone (202) 366-5319, facsimile (202) 366-3081.

SUPPLEMENTARY INFORMATION:

I. Overview: GM has determined that certain MY 2015 GMC MPVs do not fully comply with FMVSS No. 108, Lamps, Reflective Devices, and Associated Equipment (49 CFR 571.108). GM has filed a noncompliance report dated November 5, 2014, pursuant to 49 CFR part 573, Defect and Noncompliance Responsibility and Reports. GM also petitioned NHTSA on November 26, 2014, pursuant to 49 U.S.C. 30118(d) and 30120(h) and 49 CFR part 556, for an exemption from the notification and remedy requirements of 49 U.S.C. Chapter 301 on the basis that this noncompliance is inconsequential as it relates to motor vehicle safety.

Notice of receipt of the petition was published with a 30-day public comment period, on June 11, 2015, in the Federal Register (80 FR 33334). No comments were received. To view the petition and all supporting documents log onto the Federal Docket Management System (FDMS) website at: http://www.regulations.gov/. Then follow the online search instructions to locate docket number “NHTSA-2014-0125.”

II. Vehicles Involved: Affected are approximately 51,616 MY 2015 GMC Yukon, Yukon Denali, Yukon XL, and Yukon XL Denali MPVs manufactured between September 19, 2013, and October 10, 2014. See GM's petition for additional details.

III. Noncompliance: GM explains that the noncompliance is that under certain conditions the parking lamps on the subject vehicles fail to meet the device activation requirements of paragraph S7.8.5 of FMVSS No. 108.

IV. Rule Requirements: Paragraph S7.8.5 of FMVSS No. 108 titled “Activation,” as detailed in Table I-a, includes the requirements relevant to this petition:

• Parking lamps must be activated when the headlamps are activated in a steady burning state.

V. Summary of GM's Analyses: GM stated its belief that the subject noncompliance is inconsequential to motor vehicle safety for the following reasons:

(A) GM explains that the condition is difficult to create even in laboratory settings, let alone real-world driving conditions. GM also stated that they were only able to duplicate the condition under the following circumstances:

• The vehicle is being operated during the daytime with the master lighting switch in “AUTO” mode.

• The transmission is not in “Park.”

• Three or more high-inrush current spikes that exceed the body control module (BCM) inrush current threshold occur on the parking lamp/daytime running lamp (DRL) circuit within a period of 0.625 seconds. While there may be other methods for triggering these spikes (e.g., a service event), GM has only been able to isolate one cause: manually moving the master lighting control from “AUTO” to parking lamp (or headlamp), back to “AUTO” and back to parking lamp (or headlamp) within 0.625 seconds.

(B) GM believes that drivers are unlikely to cause these spikes during real-world driving. The subject vehicles are equipped with automatic-headlamp operation, so there is very little need for drivers to ever manually operate their vehicle's master lighting control. But even if a driver were inclined to do so, rapidly cycling a vehicle's master lighting control from “AUTO” to parking lamp (or headlamp) back to “AUTO” and back to parking lamp (or headlamp) in less than a second is a highly unusual maneuver that few (if any) drivers would ever attempt during normal vehicle operation.

(C) GM additionally explained that the condition is short-lived and that if the condition does occur any of the following routine operations will automatically correct the condition:

• The ignition is turned off and then on with the master lighting control in “AUTO” mode.

• Turning the ignition off with the master lighting control in any mode other than “AUTO,” and then turning the ignition back on after a minimum of ten minutes.

• Cycling the master lighting control to off and then back to any on position.

• If the vehicle is in DRL mode, activating both turn signals, or shifting the transmission in and out of “PARK.”

(D) GM notes that while the condition affects the parking lamps and DRLs it does not affect the operation of the vehicle's other lamps.

(E) GM also cited a previous petition that NHTSA granted dealing with a noncompliance that GM believes is similar to the noncompliance that is the subject of its petition.

GM is not aware of any field incidents or warranty claims relating to the subject noncompliance.

GM has additionally informed NHTSA that it corrected the noncompliance in subsequent production of the subject vehicles.

In summation, GM believes that the described noncompliance of the subject vehicles is inconsequential to motor vehicle safety, and that its petition, seeking to exempt GM from providing recall notification of noncompliance as required by 49 U.S.C. 30118 and remedying the recall noncompliance as required by 49 U.S.C. 30120 should be granted.

GM's complete petition and all supporting documents are available by logging onto the Federal Docket Management System (FDMS) website at: https://www.regulations.gov/ and following the online search instructions to locate the docket number listed in the title of this notice.

NHTSA'S Decision:

NHTSA's Analysis: NHTSA has reviewed and accepts GM's analyses that the subject noncompliance is inconsequential to motor vehicle safety.

NHTSA stresses that compliant parking lamps are important safety features of vehicles. There are a number of factors that led NHTSA to the conclusion that under the specific circumstances described in this petition, this situation would have a low probability of occurrence and, if it should occur, it would neither be long lasting nor likely to occur during a period when parking lamps are generally in use. Importantly, when the noncompliance does occur, other lamps remain functional. The combination of all of the factors, specific to this case, abate the risk to safety.

As defined by FMVSS No. 108, parking lamps are lamps on both the left and right of the vehicle which show to the front and are intended to mark the vehicle when parked or serve as a reserve front position indicating system in the event of headlamp failure. While this definition does not mention daytime or nighttime, NHTSA believes the primary benefit of parking lamps to motor vehicle safety occurs during dusk and darkness.

Based on GM's explanation, the condition during which the parking lamps do not activate simultaneously with the headlamps could only originate under a very narrow set of circumstances that cause the vehicle to falsely diagnose a short-to-ground of the parking lamp circuit. Furthermore, these narrow circumstances would only occur when the DRLs are activated which is during the daytime. For the condition to present itself during darkness, it would have had to originate during the day and continue operation past twilight, because that is when the headlamps and other required lamps (including parking lamps) are automatically activated. In addition, the condition would only exist until one of the actions that would reset the system and eliminate the condition occurred. GM explains the five conditions under which this occurs,¹ including actions like turning the vehicle off and then back on again while the lighting switch is in the default position.

¹ Other reset conditions include: The ignition is turned off and then turned on with the master lighting control in “AUTO” mode; the ignition is turned off with the master lighting control in any mode other than “AUTO” and the vehicle is restarted after the ignition is off for a minimum of ten minutes; the master lighting control is turned off and then to any on position; the transmission is moved in and out of “Park” while the vehicle is in DRL mode (daytime and master lighting control is in “AUTO” position); or both turn signals are activated while the vehicle is in DRL mode.

Therefore, NHTSA concludes that there is a very remote chance that this situation would occur during dusk or darkness when parking lamps are important to safety and, importantly, that if the situation were to occur, it would correct itself during normal vehicle operations.

GM referred to two prior inconsequential noncompliance petitions NHTSA granted involving noncompliant conditions caused by a rare, or very specific and rare sequence of events. The first was a petition from Nissan North America (see 78 FR 59090), regarding a unique sequence of actions that can lead to the shift position indicator displaying the incorrect shift position. While this issue was considered a rare occurrence, the primary reason for granting the petition was that the vehicle could not be started or operated when the shift position indicator was in its noncompliant state. NHTSA does not believe that this prior petition supports GM's argument in this case since the relevant issue is that the vehicles under GM's current petition can be operated with the noncompliant condition.

The second was a petition from GM (see 78 FR 35355), regarding the occupant classification system telltale. In this case, GM explained, that on rare occasions (estimated as once every 18 months) during a particular ignition cycle, the passenger airbag telltale indicates that the airbag is “OFF,” regardless of whether the airbag was or was not suppressed at the time. Despite the erroneous telltale, the airbag still functioned as designed and there was no danger to the vehicle occupants because of this noncompliance. Once again, NHTSA does not believe that this prior petition supports GM's argument in this case because the airbag was still fully functional and operating as designed.

NHTSA's Decision: In consideration of the foregoing, NHTSA finds that GM has met its burden of persuasion that the subject FMVSS No. 108 noncompliance is inconsequential to motor vehicle safety. Accordingly, GM's petition is hereby granted and GM is consequently exempted from the obligation of providing notification of, and a free remedy for, that noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the subject vehicles that GM no longer controlled at the time it determined that the noncompliance existed. However, the granting of this petition does not relieve vehicle distributors and dealers of the prohibitions on the sale, offer for sale, or introduction or delivery for introduction into interstate commerce of the noncompliant vehicles under their control after GM notified them that the subject noncompliance existed.

Authority: (49 U.S.C. 30118, 30120: delegations of authority at 49 CFR 1.95 and 501.8).

Jeffrey M. Giuseppe,
Associate Administrator for Enforcement.

[FR Doc. 2018-03677 Filed 2-21-18; 8:45 am]

BILLING CODE 4910-59-P